SPECIAL INSPECTOR GENERAL FOR AFGHANISTAN RECONSTRUCTION

No FEAR Act Notice

AGENCY: Special Inspector General for Afghanistan Reconstruction.

ACTION: Notice.

SUMMARY: This notice fulfills the Special Inspector General for Afghanistan Reconstruction's (SIGAR) “No FEAR Act Notice” Federal Register publication obligations, as required by the Section 202(a) of the Notification and Federal Employee Antidiscrimination and Retaliation Act of 2002 (No FEAR) Act and by the Office of Personnel Management implementing regulations at 5 CFR 724.202, to all current and former SIGAR employees and applicants for employment.

DATES: This notice is effective May 10, 2012.

ADDRESSES: SIGAR Office of General Counsel, Hugo Teufel, Special Inspector General for Afghanistan Reconstruction, 2530 Crystal Drive, Arlington, VA 22202.

FOR FURTHER INFORMATION CONTACT: Call or email the Acting General Counsel Hugo Teufel: Telephone—703-545-5990; email—hugo.teufel.civ@mail.mil.

SUPPLEMENTARY INFORMATION: On January 28, 2008, the President signed into law the National Defense Authorization Act for Fiscal Year 2008 (Pub. L. 110-181), which created the Special Inspector General for Afghanistan Reconstruction (SIGAR). SIGAR is responsible for coordinating and conducting audits and investigations to promote efficiency and effectiveness of reconstruction programs, and to detect and prevent waste, fraud, and abuse of taxpayers' dollars. SIGAR is publishing its initial No FEAR Act notice to inform all employees, former employees, and applicants for employment of their rights under antidiscrimination and whistleblower protection laws, and to advise that it will publish certain statistical data relating to Federal sector equal employment opportunity and other complaints filed with SIGAR.

Hugo Teufel,
Acting General Counsel, Special Inspector General for Afghanistan Reconstruction.

Table of Contents

List of Notices

No FEAR Act Notice

On May 15, 2002, Congress enacted the “Notification and Federal Employee Antidiscrimination and Retaliation Act of 2002,” which is now known as the No FEAR Act. One purpose of the Act is to “require that Federal agencies be accountable for violations of antidiscrimination and whistleblower protection laws.” Public Law 107-174, Summary.

The law provides that Federal agencies must:

• Notify employees and applicants for employment about their rights under the discrimination and whistleblower laws

• Post statistical data relating to Federal sector equal employment opportunity complaints on its public Web site

• Ensure that their managers have adequate training in the management of a diverse workforce, early and alternative conflict resolution, and essential communications skills

• Conduct studies on the trends and causes of complaints of discrimination

• Implement new measures to improve the complaint process and the work environment

• Initiate timely and appropriate discipline against employees who engage in misconduct related to discrimination or reprisal

• Reimburse the Judgment Fund for any discrimination and whistleblower related settlements or judgments reached in Federal court

• Produce annual reports of status and progress to Congress, the Attorney General and the U.S. Equal Employment Commission.

Antidiscrimination Laws

A Federal agency cannot discriminate against an employee or applicant with respect to the terms, conditions or privileges of employment on the basis of race, color, religion, sex, national origin, age, disability, marital status or political affiliation. Discrimination on these bases is prohibited by one or more of the following statutes: 5 U.S.C. 2302(b)(1), 29 U.S.C. 206(d), 29 U.S.C. 631, 29 U.S.C. 633a, 29 U.S.C. 791 and 42 U.S.C. 2000e-16.

If you believe that you have been the victim of unlawful discrimination on the basis of race, color, religion, sex, national origin or disability, you must contact an Equal Employment Opportunity (EEO) counselor within 45 calendar days of the alleged discriminatory action, or, in the case of a personnel action, within 45 calendar days of the effective date of the action, before you can file a formal complaint of discrimination with your agency. See, e.g. 29 CFR 1614.

SIGAR employees, former employees, or applicants for employment who believe they may have been victims of unlawful discrimination may contact an EEO Counselor at the Department of the Army, Washington Headquarters Service, which serves as the support agent on EEO matters for SIGAR.

If you believe that you have been the victim of unlawful discrimination on the basis of age, you must either contact an EEO counselor as noted above or give notice of intent to sue to the Equal Employment Opportunity Commission (EEOC) within 180 calendar days of the alleged discriminatory action. If you are alleging discrimination based on marital status or political affiliation, you may file a written complaint with the U.S. Office of Special Counsel (OSC) (see contact information below). In the alternative (or in some cases, in addition), you may pursue a discrimination complaint by filing a grievance through your agency's administrative or negotiated grievance procedures, if such procedures apply and are available.

Whistleblower Protection Laws

A Federal employee with authority to take, direct others to take, recommend or approve any personnel action must not use that authority to take or fail to take, or threaten to take or fail to take, a personnel action against an employee or applicant because of disclosure of information by that individual that is reasonably believed to evidence violations of law, rule or regulation; gross mismanagement; gross waste of funds; an abuse of authority; or a substantial and specific danger to public health or safety, unless disclosure of such information is specifically prohibited by law and such information is specifically required by Executive order to be kept secret in the interest of national defense or the conduct of foreign affairs.

Retaliation against an employee or applicant for making a protected disclosure is prohibited by 5 U.S.C. 2302(b)(8). If you believe that you have been the victim of whistleblower retaliation, you may file a written complaint (Form OSC-11) with the U.S. Office of Special Counsel at 1730 M Street NW., Suite 218, Washington, DC 20036-4505 or online through the OSC Web site— http://www.osc.gov.

Retaliation for Engaging in Protected Activity

A Federal agency cannot retaliate against an employee or applicant because that individual exercises his or her rights under any of the Federal antidiscrimination or whistleblower protection laws listed above. If you believe that you are the victim of retaliation for engaging in protected activity, you must follow, as appropriate, the procedures described in the Antidiscrimination Laws and Whistleblower Protection Laws sections or, if applicable, the administrative or negotiated grievance procedures in order to pursue any legal remedy.

Disciplinary Actions

Under the existing laws, each agency retains the right, where appropriate, to discipline a Federal employee for conduct that is inconsistent with Federal Antidiscrimination and Whistleblower Protection Laws up to and including removal. If OSC has initiated an investigation under 5 U.S.C. 1214, however, according to 5 U.S.C. 1214(f), agencies must seek approval from the Special Counsel to discipline employees for, among other activities, engaging in prohibited retaliation. Nothing in the No FEAR Act alters existing laws or permits an agency to take unfounded disciplinary action against a Federal employee or to violate the procedural rights of a Federal employee who has been accused of discrimination.

Additional Information

For further information regarding the No FEAR Act regulations, refer to 5 CFR part 724, as well as the appropriate offices within SIGAR (e.g., human resources office or the Office of General Counsel) or Army (Washington Headquarters Service). Additional information regarding Federal antidiscrimination, whistleblower protection and retaliation laws can be found at the EEOC Web site— http://www.eeoc.gov and the OSC Web site— http://www.osc.gov.

Existing Rights Unchanged

Pursuant to section 205 of the No FEAR Act, neither the Act nor this notice creates, expands or reduces any rights otherwise available to any employee, former employee or applicant under the laws of the United States, including the provisions of law specified in 5 U.S.C. 2302(d).

[FR Doc. 2012-11300 Filed 5-9-12; 8:45 am]

BILLING CODE 3710-L9-P